DEPARTMENT OF HOMELAND SECURITY

Coast Guard

33 CFR Part 165

[CGD13-05-008]

RIN 1625-AA00

Safety Zones; Annual Fireworks Events in the Captain of the Port, Portland Zone

AGENCY: Coast Guard, DHS.

ACTION: Notice of enforcement.

SUMMARY: The Captain of the Port, Portland, Oregon, will enforce the safety zones established for the Cinco de Mayo Fireworks Display and the Portland Rose Festival Fireworks Display on the waters of the Willamette River on May 6, 2005 and June 3, 2005 respectively. The Captain of the Port, Portland, Oregon, is taking this action to safeguard watercraft and their occupants from safety hazards associated with the display of fireworks. Entry into these safety zones is prohibited unless authorized by the Captain of the Port.

DATES: The Cinco de Mayo Fireworks Display in 33 CFR 165.1315(a)(1) will be enforced on May 6, 2005. The Portland Rose Festival Fireworks in 33 CFR 165.1315(a)(2) will be enforced on June 3, 005.

FOR FURTHER INFORMATION CONTACT: Petty Officer Charity Keuter, c/o Captain of the Port Portland, OR 6767 North Basin Avenue Portland, OR 97217 at (503) 240-2590 to obtain information concerning enforcement of this rule.

SUPPLEMENTARY INFORMATION: On May 30, 2003 the Coast Guard published a final rule (68 FR 32366) establishing regulations in 33 CFR 165.1315 to safeguard watercraft and their occupants on the waters of the Willamette, Columbia, and Coos Rivers from safety hazards associated with the display of fireworks within the AOR of the Captain of the Port, Portland, Oregon. The Coast Guard is issuing notice that the Captain of the Port, Portland, Oregon will enforce the established safety zones on the waters of the Willamette River between the Morrison and Hawthorne Bridges published in paragraphs (a)(1), Cinco de Mayo Fireworks Display, Portland, OR, and (a)(2), Portland Rose Festival Fireworks Display, Portland, OR, of 33 CFR 165.1315 on May 6, 2005 from 9 p.m. to 10:30 p.m. and June 3, 2005 from 9:20 p.m. to 10:50 p.m. respectively. Entry into these safety zones is prohibited unless otherwise exempted or excluded under the final rule or unless authorized by the Captain of the Port or his designee. The Captain of the Port may be assisted by other Federal, State, or local agencies in enforcing these safety zones.

Dated: April 20, 2005.
Daniel T. Pippenger,
Commander, U.S. Coast Guard, Alternate Captain of the Port, Portland, OR.

[FR Doc. 05-8822 Filed 5-2-05; 8:45 am]

BILLING CODE 4910-15-P